DEPARTMENT OF TRANSPORTATION

Federal Aviation Administration

14 CFR Part 97

[Docket No. 30567; Amdt. No. 3233]

Standard Instrument Approach Procedures, and Takeoff Minimums and Obstacle Departure Procedures; Miscellaneous Amendments

AGENCY: Federal Aviation Administration (FAA), DOT.

ACTION: Final rule.

SUMMARY: This Rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 6, 2007. The compliance date for each SIAP, associated Takeoff Minimums, and ODP is specified in the amendatory provisions.

The incorporation by reference of certain publications listed in the regulations is approved by the Director of the Federal Register as of September 6, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169; or

4. The National Archives and Records Administration (NARA). For information on the availability of this material at NARA, call 202-741-6030, or go to: http://www.archives.gov/federal_register/code_of_federal_regulations/ibr_locations.html.

Availability—All SIAPs and Takeoff Minimums and ODPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry. J. Hodges, Flight Procedure Standards Branch (AFS-420), Flight Technologies and Programs Division, Flight Standards Service, Federal Aviation Administration, Mike Monroney Aeronautical Center, 6500 South MacArthur Blvd. Oklahoma City, OK. 73169 (Mail Address: P.O. Box 25082 Oklahoma City, OK 73125) telephone: (405) 954-4164.

SUPPLEMENTARY INFORMATION: This rule amends Title 14 of the Code of Federal Regulations, Part 97 (14 CFR part 97), by establishing, amending, suspending, or revoking SIAPs, Takeoff Minimums and/or ODPs. The complete regulatory description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. Thus, the advantages of incorporation by reference are realized and publication of the complete description of each SIAP, Takeoff Minimums and ODP listed on FAA forms is unnecessary. This amendment provides the affected CFR sections and specifies the types of SIAPs and the effective dates of the SIAPs, the associated Takeoff Minimums,and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure before adopting these SIAPs, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, and Navigation (Air).

Issued in Washington, DC on August 24, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and/or Takeoff Minimums and/or Obstacle Departure Procedures effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 27 SEP 2007

San Francisco, CA, San Francisco Intl, RNAV (GPS) X RWY 10R, Orig-A

Valdosta, GA, Valdosta Rgnl, ILS OR LOC RWY 35, Amdt 6

Valdosta, GA, Valdosta Rgnl, VOR RWY 35, Amdt 1

Great Falls, MT, Great Falls Intl, ILS OR LOC/DME RWY 3, Amdt 4, ILS RWY 3 (CAT II), ILS RWY 3 (CAT III)

Great Falls, MT, Great Falls Intl, RNAV (GPS) RWY 3, Amdt 2

Laconia, NH, Laconia Muni, Takeoff Minimums and Obstacle DP, Amdt 3

Effective 25 OCT 2007

Kobuk, AK, Kobuk, RNAV (GPS) RWY 9, Orig

Kobuk, AK, Kobuk, RNAV (GPS) RWY 27, Orig

Kobuk, AK, Kobuk, Takeoff Minimums and Obstacle DP, Orig

Siloam Springs, AR, Smith Field, RNAV (GPS) RWY 18, Orig

Siloam Springs, AR, Smith Field, RNAV (GPS) RWY 36, Orig

Siloam Springs, AR, Smith Field, VOR-A, Amdt 9

Siloam Springs, AR, Smith Field, Takeoff Minimums and Obstacle DP, Orig

Stuttgart, AR, Stuttgart AR, RNAV (GPS) RWY 36, Amdt 1

St. Johns, AZ, St. Johns Industrial Air Park, RNAV (GPS) RWY 32, Orig-A

Los Angeles, CA, Los Angeles Intl, RNAV (GPS) RWY 25L, Amdt 1A

San Francisco, CA, San Francisco Intl, RNAV (RNP) Y RWY 28R, Orig-B

Middletown, DE, Summit, NDB-A, Amdt 7

Sebring, FL, Sebring Regional, Takeoff Minimums and Obstacle DP, Orig

Tallahassee, FL, Tallahassee RGNL, Takeoff Minimums and Obstacle DP, Orig

Cartersville, GA, Cartersville, Takeoff Minimums and Obstacle DP, Amdt 1

Jasper, GA, Pickens County, RNAV (GPS) RWY 16, Orig

Jasper, GA, Pickens County, RNAV (GPS) RWY 34, Orig

Jasper, GA, Pickens County, GPS RWY 34, Orig, CANCELLED

Jasper, GA, Pickens County, Takeoff Minimums and Obstacle DP, Amdt 1

Fairfield, IA, Fairfield Muni, RNAV (GPS) RWY 18, Amdt 2

Fairfield, IA, Fairfield Muni, RNAV (GPS) RWY 36, Amdt 1

Fairfield, IA, Fairfield Muni, NDB RWY 36, Amdt 9

Emporia, KS, Emporia Muni, RNAV (GPS) RWY 1, Orig

Emporia, KS, Emporia Muni, RNAV (GPS) RWY 19, Orig

Emporia, KS, Emporia Muni, VOR-A, Amdt 14

Emporia, KS, Emporia Muni, GPS RWY 01, Orig, CANCELLED

Emporia, KS, Emporia Muni, GPS RWY 19, Orig, CANCELLED

Emporia, KS, Emporia Muni, Takeoff Minimums and Obstacle DP, Orig

McPherson, KS, McPherson, RNAV (GPS) RWY 18, Orig

McPherson, KS, McPherson, RNAV (GPS) RWY 36, Orig

McPherson, KS, McPherson, GPS RWY 18, Orig, CANCELLED

McPherson, KS, McPherson, GPS RWY 36, Amdt 1, CANCELLED

McPherson, KS, McPherson, Takeoff Minimums and Obstacle DP, Amdt 2

Wellington, KS, Wellington Muni, RNAV (GPS) RWY 17, Amdt 1

Wellington, KS, Wellington Muni, RNAV (GPS) RWY 35, Amdt 1

Wellington, KS, Wellington Muni, Takeoff Minimums and Obstacle DP, Orig

Chatham, MA, Chatham Municipal, Takeoff Minimums and Obstacle DP, Orig

Biddeford, ME, Biddeford Muni, Takeoff Minimums and Obstacle DP, Orig

Frenchville, ME, Northern Aroostook Rgnl, Takeoff Minimums and Obstacle DP, Orig

Portland, ME, Portland Intl Jetport, RADAR-1, Orig 28, CANCELLED

Frankfort, MI, Frankfort Dow Memorial Field, RNAV (GPS) RWY 15, Amdt 1

Frankfort, MI, Frankfort Dow Memorial Field, RNAV (GPS) RWY 33, Amdt 1

Frankfort, MI, Frankfort Dow Memorial Field, VOR/DME-A, Amdt 1

Fremont, MI, Fremont Muni, RNAV (GPS) RWY 18, Amdt 1

Fremont, MI, Fremont Muni, RNAV (GPS) RWY 36, Amdt 1

Bay St Louis, MS, Stennis Intl, RNAV (GPS) RWY 18, Orig

Bay St Louis, MS, Stennis Intl, RNAV (GPS) RWY 36, Orig

Bay St Louis, MS, Stennis Intl, VOR-A, Amdt 7

Bay St Louis, MS, Stennis Intl, VOR/DME RNAV OR GPS RWY 18, Amdt 2B, CANCELLED

Bay St Louis, MS, Stennis Intl, GPS RWY 36, Orig-B, CANCELLED

Bay St Louis, MS, Stennis Intl, Takeoff Minimums and Obstacle DP, Orig

Raymond, MS, John Bell Williams, RNAV (GPS) RWY 12, Amdt 1

Raymond, MS, John Bell Williams, RNAV (GPS) RWY 30, Amdt 1

Raymond, MS, John Bell Williams, Takeoff Minimums and Obstacle DP, Amdt 2

Erwin, NC, Harnett County, RNAV (GPS) RWY 5, Amdt 2

Erwin, NC, Harnett County, RNAV (GPS) RWY 23, Amdt 2

Kinston, NC, Kinston Rgnl Jetport at Stallings Field, RNAV (GPS) RWY 5, Amdt 2

Kinston, NC, Kinston Rgnl Jetport at Stallings Field, RNAV (GPS) RWY 23, Amdt 2

Kinston, NC, Kinston Rgnl Jetport at Stallings Field, Takeoff Minimums and Obstacle DP, Orig

Nashua, NH, Boire Field, Takeoff Minimums and Obstacle DP, Amdt 2

Albany, NY, Albany Intl, COPTER ILS OR LOC/DME RWY 1, Amdt 1

Delaware, OH, Delaware Muni, Takeoff Minimums and Obstacle DP, Orig

Lebanon, OH, Lebanon-Warren County, RNAV (GPS) RWY 19, Amdt 1

Clinton, OK, Clinton Regional, RNAV (GPS) RWY 17, Amdt 1

Clinton, OK, Clinton Regional, RNAV (GPS) RWY 35, Amdt 2

Clinton, OK, Clinton Regional, Takeoff Minimums and Obstacle DP, Orig

Harrisburg, PA, Harrisburg Intl, Takeoff Minimums and Obstacle DP, Amdt 7

Anderson, SC, Anderson Rgnl, RNAV (GPS) RWY 5, Amdt 1A

Myrtle Beach, SC, Myrtle Beach Intl, ILS OR LOC RWY 18, Amdt 1G

Myrtle Beach, SC, Myrtle Beach Intl, ILS OR LOC RWY 36, Amdt 1D

Covington, TN, Covington Muni, Takeoff Minimums and Obstacle DP, Orig

Lexington-Parsons, TN, Beech River Regional, VOR-A, Orig-A

Brownfield, TX, Terry County, NDB RWY 2, Amdt 2A, CANCELLED

Denton, TX, Denton Muni, Takeoff Minimums and Obstacle DP, Amdt 1

Auburn, WA, Auburn Muni, RNAV (GPS)-A, ORIG

Auburn, WA, Auburn Muni, Takeoff Minimums and Obstacle DP, Orig

Port Angeles, WA, William R Fairchild Intl, RNAV (GPS) RWY 8, Orig

Port Angeles, WA, William R Fairchild Intl, ILS OR LOC RWY 8, Amdt 2

Port Angeles, WA, William R Fairchild Intl, Takeoff Minimums and Obstacle DP, Amdt 2

Baraboo, WI, Baraboo Wisconsin Dells, LOC/DME RWY 1, Orig

Baraboo, WI, Baraboo Wisconsin Dells, VOR-A, Amdt 12

Boscobel, WI, Boscobel, Takeoff Minimums and Obstacle DP, Amdt 1

Lone Rock, WI, Tri-County Regional, LOC RWY 27, Orig

Middleton, WI, Middleton Muni-Morey Field, LOC/DME RWY 10, Orig

Phillips, WI, Price County, RNAV (GPS) RWY 1, Orig

Phillips, WI, Price County, RNAV (GPS) RWY 19, Orig

Phillips, WI, Price County, GPS RWY 1, Orig, CANCELLED

Phillips, WI, Price County, GPS RWY 19, Orig, CANCELLED

Gillette, WY, Gillette-Campbell County, VOR/DME RWY 16, Orig

Gillette, WY, Gillette-Campbell County, VOR RWY 16, Amdt 7, CANCELLED

Wheatland, WY, Phifer Airfield, RNAV (GPS)-A, Orig

Wheatland, WY, Phifer Airfield, Takeoff Minimums and Obstacle DP, Orig

Effective 20 DEC 2007

Monee, IL, Bult Field, VOR OR GPS RWY 5, Amdt 3, CANCELLED

Ann Arbor, MI, Ann Arbor Muni, Takeoff Minimums and Obstacle DP, Amdt 8

Pontiac, MI, Oakland County Intl, Takeoff Minimums and Obstacle DP, Amdt 4

Effective 14 FEB 2008

Chicago, IL, Chicago Midway Intl, ILS OR LOC RWY 4R, Orig-A

[FR Doc. E7-17345 Filed 9-5-07; 8:45 am]

BILLING CODE 4910-13-P